SECURITIES AND EXCHANGE COMMISSION

[Release No. 34-52209A; File No. SR-NASD-2004-165]

Self-Regulatory Organizations; National Association of Securities Dealers, Inc.; Order Approving Proposed Rule Change and Amendment Nos. 1 and 2 Thereto Relating to NASD Rule 2790; Corrected

August 22, 2005.

Correction

In Part III.D. of Release 34-52209, issued August 4, 2005,¹ the Commission is replacing the following sentence:

¹ See Securities Exchange Act Release No. 52209 (August 4, 2005), 70 FR 46557 (August 10, 2005).

“The NASD suggests that the proposed rule change become effective 45 days after approval by the Commission and the Commission believes that this is reasonable.”

with:

“The NASD will announce the effective date of the proposed rule change in a Notice to Members (“NtM”) to be published no later than 60 days following Commission approval. The effective date will be not more than 30 days following publication of the NtM announcing Commission approval and the Commission believes this is reasonable.”

For the Commission, by the Division of Market Regulation, pursuant to delegated authority.²
² 17 CFR 200.30-3(a)(12).
Margaret H. McFarland,
Deputy Secretary.

[FR Doc. 05-16956 Filed 8-25-05; 8:45 am]

BILLING CODE 8010-01-P